DEPARTMENT OF ENERGY

Federal Energy Regulatory Commission

[Docket No. ER00-2624-000]

New York Independent System Operator, Inc.; Notice of Filing

June 1, 2000.

Take notice that on May 26, 2000, New York Independent System Operator, Inc., (NYISO), tendered for filing a request for an extension of Temporary Extraordinary Procedures for Correcting Market Design Flaws and Addressing Transitional Abnormalities.

The NYISO requests an effective date of May 17, 2000 and waiver of the Commission's notice requirements.

A copy of this filing was served upon all persons on the Commission's official service list in Docket No. ER00-1533-000, on those parties who have executed service agreements under the NYISO Open Access Transmission Tariff or under the New York Independent System Operator Market Administration and Control Area Services Tariff and on the electric utility regulatory agencies in New York, New Jersey and Pennsylvania.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 16, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14122 Filed 6-5-00; 8:45 am]

BILLING CODE 6717-01-M